Title 3—

The President

Proclamation 9712 of March 27, 2018

Education and Sharing Day, U.S.A., 2018

By the President of the United States of America

A Proclamation

A quality education can give every child, regardless of his or her circumstances, the opportunity to grow, thrive, succeed, and achieve their version of the American Dream. On Education and Sharing Day, we acknowledge the power that a solid academic foundation, combined with the transformative power of time-honored values and ethics, can have in helping young people achieve lives of purpose and passion.

Today, we honor the life and legacy of Rabbi Menachem Mendel Schneerson. The Lubavitcher Rebbe was a widely respected scholar and leader of faith who believed in the potential of all persons and sought to empower young people through education, character development, and civic pride. Throughout his long and distinguished life, Rabbi Schneerson inspired millions of people, across multiple generations, through his example of compassion, wisdom, and courage in the face of oppression. He recognized that access to education, paired with moral and spiritual development, could transform the world for good, and he devoted his life to these principles. His commitment to invest in the lives of the next generation led to the establishment of academic and outreach centers to help grow and engage young minds and provide them with spiritual and material assistance. Thanks to his drive and dedication, these educational and social service centers can be found in every State and throughout the world.

The Lubavitcher Rebbe believed that even in the darkest place, “the light of a single candle can be seen far and wide.” His life is an example of the power of one person to influence the lives of many. May we strive to be that light for future generations, instilling in them the value of education and the virtues of courage and compassion that can impact our communities and the world for the better.

NOW, THEREFORE, I, DONALD J. TRUMP, President of the United States of America, by virtue of the authority vested in me by the Constitution and the laws of the United States, do hereby proclaim March 27, 2018, as “Education and Sharing Day, U.S.A.” I call upon government officials, educators, volunteers, and all the people of the United States to observe this day with appropriate programs, ceremonies, and activities.

IN WITNESS WHEREOF, I have hereunto set my hand this twenty-seventh day of March, in the year of our Lord two thousand eighteen, and of the Independence of the United States of America the two hundred and forty-second.

[FR Doc. 2018-06598

Filed 3-28-18; 11:15 am]

Billing code 3295-F8-P